DEPARTMENT OF COMMERCE

National Oceanic and Atmospheric Administration

RIN 0648-XD641

National Invasive Lionfish Prevention and Management Plan

AGENCY: National Marine Fisheries Service (NMFS), National Oceanic and Atmospheric Administration (NOAA), Commerce.

ACTION: Notice of availability of the National Invasive Lionfish Prevention and Management Plan; request for comments.

SUMMARY: The National Oceanic and Atmospheric Administration (NOAA) announces the availability of the National Invasive Lionfish Prevention and Management Plan (Plan). The Plan is available for public review and comment.

DATES: Comments must be received by January 26, 2015.

ADDRESSES: Electronic copies of the National Invasive Lionfish Prevention and Management Plan are available on the Aquatic Nuisance Species Task Force (ANSTF) Web site, http://anstaskforce.gov. To obtain a hard copy of the Plan or to submit comments, see Document Availability and Public Comment under SUPPLEMENTARY INFORMATION.

FOR FURTHER INFORMATION CONTACT: Margaret M. (Peg) Brady, NOAA Policy Liaison to the Aquatic Nuisance Species Task Force. 1315 East West Highway, SSMC 3, Rm. 15426 Silver Spring, MD 20910 Phone: 301-427-8655; Email: Peg.Brady@noaa.gov

SUPPLEMENTARY INFORMATION:

Introduction

The ANSTF is an intergovernmental organization dedicated to preventing and controlling aquatic nuisance species (ANS) and coordinating governmental efforts of the United States with the private sector and other North American interests. ANSTF was established by Congress with the passage of the Nonindigenous Aquatic Nuisance Prevention and Control Act (NANPCA) of 1990 (NANPCA, Pub. L. 101-646, 104 Stat. 4761, 16 U.S.C. 4701-4741) and reauthorized with the passage of the National Invasive Species Act (NISA) of 1996 (NISA, Pub. L. 104-332, 110 Stat. 4073). Section 1201(d) of NANPCA designates the Undersecretary of Commerce for Oceans and Atmosphere and the Director of the U.S. Fish and Wildlife Service as the ANSTF co-chairpersons. The ANSTF's charter is authorized by the Federal Advisory Committee Act (FACA) of 1972. The charter provides the ANSTF with its core structure and ensures an open and public forum for its activities. To meet the challenges of developing and implementing a coordinated and complementary Federal program for ANS activities, the ANSTF members include 13 Federal agency representatives and 13 representatives from ex-officio member organizations. These members work in conjunction with Regional Panels and issue-specific committees to coordinate efforts amongst agencies as well as efforts of the private sector and other North American interests.

Background

NANCPA (as amended by NISA, 1996) establishes that the ANSTF is responsible for coordination of national efforts to prevent the introduction and spread of ANS. These responsibilities include the development of management plans for specific high-risk invasive species. Species management and control plans focus on tasks that are essential to minimize the impact to areas where the species have already invaded and prevent spread into additional habitats. The plans are developed through a cooperative process and undergo review by the ANS Task Force members and Regional Panels. Successful implementation of these plans requires the participation of states, regional, and tribal entities as well as federal agencies.

Two lionfish species (Pterois volitans and Pterois miles) have been introduced and are now invasive along the Atlantic coast, throughout the Caribbean, and most recently in the Gulf of Mexico. Native to the waters of the Indo-Pacific region, the lionfish was first documented in the waters of the United States in 1985. In response to the increasing range and density of these invasive species and their potential to impact ecology, economy, and human health, the ANSTF formed an Invasive Lionfish Control Ad-hoc Committee (Committee). The Committee was charged with the development of a National Invasive Lionfish Prevention and Management Plan (Plan) which would serve as a guide to the ANSTF and other interested parties involved in management of lionfish and natural resources in U.S. waters. Specifically, implementation of the Plan would provide federal agencies and other stakeholders an opportunity to contribute through relevant programs and authorities to:

(1) Prevent the further introduction of additional invasive lionfish.

(2) Conduct risk assessments and research on high priority pathways and high risk marine invasive species.

(3) Promote public education and awareness on invasive lionfish.

(4) Participate in the development of early detection and rapid response frameworks and plans for marine environments.

(5) Monitor invasive lionfish populations accurately and reliably.

(6) Coordinate and control populations of invasive lionfish in a cost-effective and environmentally sound manner.

(7) Provide the mechanisms and venues for coordinated and collaborative research and management.

(8) Expand research efforts that focus on the biology, ecology, impact, and control of the species.

(9) Provide the guidance to restore native species and habitat conditions in ecosystems that have been invaded.

To achieve this vision, the Plan is structured by integrated management approaches that set forth the following Goals:

(1) Prevent the Spread of Invasive Lionfish.

(2) Coordinated Early Detection and Rapid Response.

(3) Control and Management of Invasive Lionfish.

(4) Assess Impacts of the Lionfish Invasion.

In addition to the above goals, the Plan offers a list of scientific literature on lionfish and recommendations for future research needs and outreach strategies to increase support for programs addressing the lionfish invasion. The Plan also includes an overview of the leadership, communication, and coordinating roles among partners involved in the Committee and implementation of the Plan. Finally, the Plan outlines the estimated yearly funding needs to address some of the major knowledge and management gaps with the lionfish invasion, at the time of the plan's drafting. The estimated funding is intended to be a living list, as needs may change as more is understood about invasive lionfish and new ways to manage the invasion are discovered. The final Plan was submitted to the ANSTF on November 7, 2014. Distribution of the document for public comment is the final step before the ANSTF can consider the Plan for approval.

Document Availability

You may obtain copies of the National Invasive Lionfish Prevention and Management Plan by any one of the following methods:

• Internet: http://anstaskforce.gov.

• Write: Susan Pasko, National Oceanic and Atmospheric Administration. 1315 East West Highway, SSMC 3, Rm. 15719, Silver Spring, MD 20910; Telephone: (301) 427-8682; Email: Susan.Pasko@noaa.gov.

Request for Comments

Comments on the National Invasive Lionfish Prevention and Management Plan are invited. The ANSTF will review all submitted comments and make revisions, as appropriate, to the Plan before approval. You may submit a written comment by any one of the following methods:

• Email: Susan.Pasko@noaa.gov.

• Mail or hand-delivery: Susan Pasko, National Oceanic and Atmospheric Administration. 1315 East West Highway, SSMC 3, Rm. 15719, Silver Spring, MD 20910.

All comments received by ANSTF through NOAA are part of the public record and may be made publicly available at any time. All personal identifying information (e.g., name, address, phone number, etc.), confidential business information, or other sensitive information submitted voluntarily by the sender may be publicly accessible.

Dated: December 8, 2014.
Samuel D. Rauch III,
Deputy Assistant Administrator for Regulatory Programs, National Marine Fisheries Service.

[FR Doc. 2014-29199 Filed 12-11-14; 8:45 am]

BILLING CODE 3510-22-P